DEPARTMENT OF ENERGY

Environmental Management Site-Specific Advisory Board, Idaho Cleanup Project

AGENCY: Office of Environmental Management, Department of Energy.

ACTION: Notice of Open Meeting.

SUMMARY: This notice announces a meeting of the Environmental Management Site-Specific Advisory Board (EM SSAB), Idaho Cleanup Project. The Federal Advisory Committee Act requires that public notice of this meeting be announced in the Federal Register.

DATES: Thursday, April 25, 2019; 8:00 a.m.-5:00 p.m.

The opportunities for public comment are at 10:15 a.m. and 2:00 p.m. This time is subject to change; please contact the Federal Coordinator (below) for confirmation of times prior to the meeting.

ADDRESSES: Hilton Garden Inn Twin Falls, 1741 Harrison Street North, Twin Falls, ID 83301.

FOR FURTHER INFORMATION CONTACT: Brad Bugger, Federal Coordinator, Department of Energy, Idaho Operations Office, 1955 Fremont Avenue, MS-1203, Idaho Falls, Idaho 83415. Phone (208) 526-0833; or email: buggerbp@id.doe.gov or visit the Board's internet home page at: https://energy.gov/em/icpcab/.

SUPPLEMENTARY INFORMATION:

Purpose of the Board: The purpose of the Board is to make recommendations to DOE-EM and site management in the areas of environmental restoration, waste management, and related activities.

Tentative Topics (agenda topics may change up to the day of the meeting; please contact Brad Bugger for the most current agenda):

• Recent Public Outreach

• Idaho Cleanup Project (ICP) Overview

• Update on Integrated Waste Treatment Unit (IWTU)

• Update on Fiscal Year 2020 Budget Proposal

• Subsurface Disposal Area (SDA) Cap 90 Percent Design

• Update on Groundwater and Snake River Plain Aquifer

• Report from Subcommittee on Calcine

• Reports from Other Subcommittees and Board Organizational Topics

Public Participation: The meeting is open to the public. The EM SSAB, Idaho Cleanup Project, welcomes the attendance of the public at its advisory committee meetings and will make every effort to accommodate persons with physical disabilities or special needs. If you require special accommodations due to a disability, please contact Brad Bugger at least seven days in advance of the meeting at the phone number listed above. Written statements may be filed with the Board either before or after the meeting. Individuals who wish to make oral presentations pertaining to agenda items should contact Brad Bugger at the address or telephone number listed above. The request must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Brad Bugger, Federal Coordinator, at the address and phone number listed above. Minutes will also be available at the following website: https://energy.gov/em/icpcab/listings/cab-meetings.

Signed in Washington, DC on January 31, 2019.
LaTanya Butler,
Deputy Committee Management Officer.

[FR Doc. 2019-01236 Filed 2-5-19; 8:45 am]

BILLING CODE 6450-01-P